SMALL BUSINESS ADMINISTRATION

[Disaster Declaration #12353 and #12354]

North Carolina Disaster Number NC-00030

AGENCY: U.S. Small Business Administration.

ACTION: Amendment 2.

SUMMARY: This is an amendment of the Presidential declaration of a major disaster for the State of North Carolina (FEMA-1942-DR), dated 10/14/2010.

Incident: Severe Storms, Flooding, and Straight-line Winds associated with remnants of Tropical Storm Nicole.

Incident Period: 09/27/2010 through 10/01/2010.

DATES: Effective Date: 11/01/2010.

Physical Loan Application Deadline Date: 12/13/2010.

EIDL Loan Application Deadline Date: 07/14/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of North Carolina, dated 10/14/2010 is hereby amended to include the following areas as adversely affected by the disaster:

Primary Counties: (Physical Damage and Economic Injury Loans): Camden, Martin, New Hanover, Washington.

Contiguous Counties: (Physical Damage and Economic Injury Loans):

North Carolina: Currituck, Pasquotank.

Virginia: Chesapeake City, Suffolk City.

All other information in the original declaration remains unchanged.

(Catalog of Federal Domestic Assistance Numbers 59002 and 59008)

James E. Rivera,
Associate Administrator for Disaster Assistance.

[FR Doc. 2010-28200 Filed 11-8-10; 8:45 am]

BILLING CODE 8025-01-M